DEPARTMENT OF JUSTICE

Notice of Lodging of Consent Decree Under the Clean Water Act

Notice is hereby given that on March 1, 2011, a proposed consent decree in United States, et al. v. Arch Coal, Inc., et al., Civil Action No. 2:11-cv-00133, was lodged with the United States District Court for the Southern District of West Virginia.

The proposed Consent Decree will resolve claims alleged in this action by the United States, the State of West Virginia, and the Commonwealth of Kentucky against Arch Coal, Inc. and four of its subsidiaries (collectively, “Arch”) for the discharge of pollutants into waters of the United States in violation of Section 301 of the Act, 33 U.S.C. 1311, and in violation of the conditions and limitations of National Pollutant Discharge Elimination System (“NPDES”) permits issued by the States pursuant to Section 402 of the Act, 33 U.S.C. 1342, W. Va. Code § 22-11-8, and Ky. Rev. Stat. Ann. § 224.70-120. Under the proposed Consent Decree, Defendants will perform injunctive relief including: hiring a third-party consultant to develop and implement a compliance management system, creating a database to track information relevant to compliance efforts, conducting regular internal and third-party environmental compliance audits, implementing a system of tiered response actions for any potential future violations, and conducting annual training for all employees and contractors with environmental responsibilities and/or responsibilities under the consent decree. In addition, Arch will pay a civil penalty of $4 million.

The Department of Justice will accept comments relating to the proposed consent decree for a period of thirty (30) days from the date of publication of this notice. Comments should be addressed to the Assistant Attorney General, Environment and Natural Resources Division, and mailed either electronically to pubcomment-ees.enrd@usdoj.gov or in hard copy to P.O. Box 7611, U.S. Department of Justice, Washington, DC 20044-7611. Comments should refer to United States, et al. v. Arch Coal, Inc., et al., Civil No. 2:11-cv-00133 (S.D.W.Va.) and D.J. Reference No. 90-5-1-1-09476/1.

The proposed consent decree may be examined at: (1) The Office of the United States Attorney for the Southern District of West Virginia, P.O. Box 1713, Charleston, WV 25326; and (2) United States Environmental Protection Agency (Region 3), 1650 Arch Street, Philadelphia, PA 19103. During the comment period, the proposed consent decree may also be examined on the following Department of Justice Web site: http://www.justice.gov/enrd/Consent_Decrees.html.

A copy of the proposed consent decree may also be obtained by mail from the Department of Justice Consent Decree Library, P.O. Box 7611, Washington, DC. 20044-7611 or by faxing or e-mailing a request to Tonia Fleetwood (tonia.fleetwood@usdoj.gov), fax no. (202) 514-0097, phone confirmation number (202) 514-1547. In requesting a copy from the Consent Decree Library, please refer to the referenced case and D.J. Reference 90-5-1-1-09476/1, and enclose a check in the amount of $22.50 for the consent decree (90 pages at 25 cents per page reproduction costs), made payable to the U.S. Treasury.

Maureen Katz,
Assistant Section Chief, Environmental Enforcement Section, Environment & Natural Resources Division.

[FR Doc. 2011-5017 Filed 3-4-11; 8:45 am]

BILLING CODE 4410-15-P